DEPARTMENT OF COMMERCE

National Oceanic and Atmospheric Administration

Advisory Committee on Commercial Remote Sensing (ACCRES); Request for Nominations

AGENCY: National Oceanic and Atmospheric Administration, U.S. Department of Commerce.

ACTION: Notice requesting nominations for the Advisory Committee on Commercial Remote Sensing (ACCRES).

SUMMARY: The Advisory Committee on Commercial Remote Sensing (ACCRES) was established to advise the Secretary of Commerce, through the Under Secretary of Commerce for Oceans and Atmosphere, on matters relating to the U.S. commercial remote sensing industry and NOAA's activities to carry out responsibilities of the Department of Commerce as set forth in the Land Remote Sensing Policy Act of 1992 (15 U.S.C. 5621-5625). The Committee is comprised of leaders in the commercial space-based remote sensing industry, space-based remote sensing data users, government (Federal, State, local), and academia. The Department of Commerce is seeking highly qualified individuals who are knowledgeable about the commercial space-based remote sensing industry and uses of space-based remote sensing data to serve on the Committee.

DATES: Nominations must be postmarked no later than 30 days from the publication date of this notice.

SUPPLEMENTARY INFORMATION: ACCRES was established by the Secretary of Commerce on May 21, 2002, to advise the Secretary, through the Under Secretary of Commerce for Oceans and Atmosphere, on matters relating to the U.S. commercial remote sensing industry and NOAA's activities to carry out responsibilities of the Department of Commerce as set forth in the Land Remote Sensing Policy Act of 1992 (15 U.S.C. 5621-5625).

Committee members serve in a representative capacity for a term of two years and may serve additional terms, if reappointed. No more than 15 individuals at a time may serve on the Committee. ACCRES will have a fairly balanced membership consisting of approximately 9 to 15 members. Nominations are encouraged from all interested U.S. persons and organizations representing interests affected by the Land Remote Sensing Policy Act of 1992 and the U.S. commercial space based remote sensing policy. Nominees must possess demonstrable expertise in a field related to the spaced based commercial remote sensing industry or exploitation of space based commercial remotely sensed data and be able to attend committee meetings that are held usually two times per year. In addition, selected candidates must apply for and obtain a security clearance. Membership is voluntary, and service is without pay.

Each nomination that is submitted should include the proposed committee member's name and organizational affiliation, a cover letter describing the nominee's qualifications and interest in serving on the Committee, a curriculum vitae or resume of the nominee, and no more than three supporting letters describing the nominee's qualifications and interest in serving on the Committee. Self-nominations are acceptable. The following contact information should accompany each submission: the nominee's name, address, phone number, fax number, and e-mail address, if available.

Nominations should be sent to Director, Commercial Remote Sensing Regulatory Affairs Office, 1335 East West Highway, Room 8260, Silver Spring, Maryland 20910. Nominations must be postmarked no later than 30 days from the publication date of this notice. The full text of the Committee Charter and its current membership can be viewed at the Agency's Web page at http://www.accres.noaa.gov/index.html.

FOR FURTHER INFORMATION CONTACT: ACCRES Administration, NOAA Commercial Remote Sensing Regulatory Affairs Office, 1335 East West Highway, Room 8119, Silver Spring, Maryland 20910; telephone (301) 713-1644, e-mail CRSRA@noaa.gov.

Jane D'Aguanno,
Director, Commercial Remote Sensing, Regulatory Affairs.

[FR Doc. 2010-26746 Filed 10-21-10; 8:45 am]

BILLING CODE 3510-HR-P